DEPARTMENT OF HEALTH AND HUMAN SERVICES

Centers for Disease Control and Prevention (CDC)

CDC/HRSA Advisory Committee on HIV and STD Prevention and Treatment: Notice of Charter Establishment

This gives notice under the Federal Advisory Committee Act (Pub. L. 92-463) of October 6, 1972, that the CDC, HRSA Advisory Committee on HIV and STD Prevention and Treatment of the Centers for Disease Control and Prevention, and the Health Resources and Services Administration of the Department of Health and Human Services, has been Chartered for a 2-year period beginning November 25, 2002, through November 25, 2004.

For further information, contact Ron Valdiserri, M.D., Executive Secretary, CDC, Advisory Committee on HIV and STD Prevention, 1600 Clifton Road, NE, m/s E-07, Atlanta, Georgia 30333. Telephone 404/639-8002, or fax 404/639-8600.

The Director, Management Analysis and Services Office, has been delegated the authority to sign Federal Register notices pertaining to announcements of meetings and other committee management activities, for both the Centers for Disease Control and Prevention and the Agency for Toxic Substances and Disease Registry.

Dated: December 20, 2002.
Alvin Hall,
Director, Management Analysis and Services Office, Centers for Disease Control and Prevention.

[FR Doc. 03-170 Filed 1-3-03; 8:45 am]

BILLING CODE 4163-18-P